DEPARTMENT OF HEALTH AND HUMAN SERVICES

Administration for Children and Families

Proposed Information Collection Activity; Evaluation of Resources To Support the Identification and Care of Children With Prenatal Substance or Alcohol Exposure in the Child Welfare System (New Collection)

AGENCY: Children's Bureau, Administration for Children and Families, Department of Health and Human Services.

ACTION: Request for public comments.

SUMMARY: The Children's Bureau, Administration for Children and Families (ACF), U.S. Department of Health and Human Services (HHS), is proposing to collect data for an evaluation of a set of resources that are being developed to support the identification and care of children with prenatal substance or alcohol exposure in the child welfare system.

DATES: Comments due within 60 days of publication. In compliance with the requirements of the Paperwork Reduction Act (PRA) of 1995, ACF is soliciting public comment on the specific aspects of the information collection described above.

ADDRESSES: You can obtain copies of the proposed collection of information and submit comments by emailing infocollection@acf.hhs.gov. Identify all requests by the title of the information collection.

SUPPLEMENTARY INFORMATION:

Description: The proposed information collection effort will gather data from end users of a toolkit of resources sponsored by the Children's Bureau in collaboration with the Centers for Disease Control and Prevention under an interagency agreement. The toolkit is intended to support child welfare agency staff in the identification and support of children living with prenatal exposure to alcohol and other substances. The data collected will be used in a formative evaluation of the toolkit, which will be guided by three research questions: (1) To what degree do agency staff find toolkit resource to be relevant and applicable to their work? (2) To what degree do toolkit resources change agency staff attitudes and increase staff knowledge? (3) What implementation approaches and organizational supports facilitate toolkit use by child welfare agencies? Proposed data sources for this effort include five surveys: (1) a survey to measure users' reactions to the toolkit; (2) a survey of users' attitudes toward Prenatal Alcohol Exposure (PAE)-related issues; (3) a survey of users' knowledge about PAE-related issues; and (4 and 5) two versions of a survey of transfer potential and perceived competence, which measures users' sense of competence in PAE-related knowledge and skills and the extent to which users believe they will transfer knowledge/skills to their work. One version of this instrument contains the full survey and will be administered after users have been exposed to the full toolkit and its resources. The second version contains a smaller selection of key items from the survey, tailored to collect information from users after their exposure to each of five key modules of the toolkit. All data will be collected over the course of 6-9 months in 2023.

Respondents: Child welfare professionals, including state and/or county-level directors of child welfare agencies; supervisors; program staff (e.g., investigation/intake, case management, foster care/adoption/permanency, etc.); staff working in specialist roles that align with toolkit resources (e.g., data/quality improvement specialists); local or state agency managers involved in determining agency strategic plans and practice guidance (e.g., substance-exposed newborn program manager); training system lead staff. All data will be collected over the course of 6-9 months in 2023.

Annual Burden Estimates
Instrument | Total number of respondents | Total number of responses per respondent | Average burden hours per response | Total/annual burden hours
Survey of reactions to the toolkit | 32 | 1 | .05 | 2
Survey of attitudes | 32 | 2 | .17 | 11
Survey of PAE-related knowledge | 32 | 3 | .27 | 26
Survey of transfer potential and perceived competency | 32 | 1 | .09 | 3
Module-specific transfer potential and perceived competency items | 32 | 5 | .03 | 5

Estimated Total Annual Burden Hours: 47.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Child Abuse Prevention and Treatment Act Reauthorization Act, 42 U.S.C. 5105, (2010).

Mary B. Jones,
ACF/OPRE Certifying Officer.

[FR Doc. 2022-20546 Filed 9-21-22; 8:45 am]

BILLING CODE 4184-29-P